DEPARTMENT OF COMMERCE

International Trade Administration

[A-555-003, A-557-830, A-549-851, A-552-841]

Crystalline Silicon Photovoltaic Cells, Whether or Not Assembled Into Modules, From Cambodia, Malaysia, Thailand, and the Socialist Republic of Vietnam: Postponement of Preliminary Determinations in the Less-Than-Fair-Value Investigations

AGENCY: Enforcement and Compliance, International Trade Administration, Department of Commerce.

DATES: Applicable September 23, 2024.

FOR FURTHER INFORMATION CONTACT: Hermes Pinilla or Joshua Weiner (Cambodia) at (202) 482-3477 or (202) 482-3902, respectively; Patrick Barton or Elizabeth Talbot Russ (Malaysia) at (202) 482-0012 or (202) 482-5516, respectively; Drew Jackson (Thailand) at (202) 482-4406; and Laurel LaCivita and Deborah Cohen (the Socialist Republic of Vietnam (Vietnam)) at (202) 482-4243 and (202) 482-4521, respectively, AD/CVD Operations, Offices I, III, and IV, Enforcement and Compliance, International Trade Administration, U.S. Department of Commerce, 1401 Constitution Avenue NW, Washington, DC 20230.

SUPPLEMENTARY INFORMATION:

Background

On May 14, 2024, the U.S. Department of Commerce (Commerce) initiated less-than-fair-value (LTFV) investigations of imports of crystalline silicon photovoltaic cells, whether or not assembled into modules (solar cells), from Cambodia, Malaysia, Thailand, and Vietnam.¹ On July 22, 2024, Commerce tolled certain deadlines in this administrative proceeding by seven days.² Currently, the preliminary determinations are due no later than October 8, 2024.

¹ See Crystalline Silicon Photovoltaic Cells, Whether or Not Assembled into Modules, from Cambodia, Malaysia, Thailand, and the Socialist Republic of Vietnam: Initiation of Less-Than Fair-Value Investigations, 89 FR 43809 (May 20, 2024) (Initiation Notice).

² See Memorandum, “Tolling of Deadlines for Antidumping and Countervailing Duty Proceedings,” dated July 22, 2024.

Postponement of Preliminary Determinations

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner ³ makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

³ The petitioner is the American Alliance for Solar Manufacturing Trade Committee.

On September 9, 2024, the petitioner submitted a timely request that Commerce postpone the preliminary determinations in these LTFV investigations.⁴ The petitioner stated that it requests postponement because Commerce “only recently received responses to the initial questionnaire,” and “this extension would allow {petitioner's} counsel and other interested parties sufficient time to analyze the respondents' questionnaire responses and provide comments on those responses.” ⁵ Additionally, the extension “would allow {Commerce} to issue supplemental questionnaires and receive responses prior to making its preliminary . . . determination.” ⁶

⁴ See Petitioner's Letter, “Request to Postpone Preliminary Determination,” dated September 9, 2024.

⁵ Id. at 2.

⁶ Id.

For the reasons stated above, and because there are no compelling reasons to deny the request, Commerce, in accordance with section 733(c)(1)(A) of the Act, is postponing the deadline for the preliminary determinations by 50 days (i.e., 190 days after the date on which these investigations were initiated). As a result, Commerce will issue its preliminary determinations no later than November 27, 2024.⁷ In accordance with section 735(a)(1) of the Act and 19 CFR 351.210(b)(1), the deadline for the final determinations of these investigations will continue to be 75 days after the date of the preliminary determinations, unless postponed at a later date.

⁷ This deadline has been tolled by seven days. See footnote 2, supra.

This notice is issued and published pursuant to section 733(c)(2) of the Act and 19 CFR 351.205(f)(1).

Dated: September 17, 2024.
Ryan Majerus,
Deputy Assistant Secretary for Policy and Negotiations, performing the non-exclusive functions and duties of the Assistant Secretary for Enforcement and Compliance.

[FR Doc. 2024-21696 Filed 9-20-24; 8:45 am]

BILLING CODE 3510-DS-P